DEPARTMENT OF THE INTERIOR

Bureau of Land Management

[LLNV912000.L16400000.PH0000.006F 241A; 11-08807; TAS: 14X1109]

Notice of Public Meeting: Resource Advisory Councils, Nevada

AGENCY: Bureau of Land Management, Interior.

ACTION: Notice of public meeting.

SUMMARY: In accordance with the Federal Land Policy and Management Act and the Federal Advisory Committee Act of 1972 (FACA), the Department of the Interior, Bureau of Land Management (BLM) Nevada will hold a joint meeting of its three Resource Advisory Councils (RACs), the Sierra Front-Northwestern Great Basin RAC, the Northeastern Great Basin RAC, and the Mojave-Southern Great Basin RAC in Sparks, Nevada. The meeting is open to the public and a public comment period will be available.

Dates and Times: Thursday, November 4, 2010, from 8 a.m. to 5 p.m. and Friday, November 5, 2010, from 8 a.m. to 12 p.m. A public comment period will be held early in the afternoon on Thursday, November 4. Actual time will be posted on the Web and the agenda will be available two weeks days prior to the meeting at http://www.blm.gov/nv.

FOR FURTHER INFORMATION CONTACT: Rochelle Francisco, telephone: (775) 861-6588, e-mail: rochelle_francisco@blm.gov.

SUPPLEMENTARY INFORMATION: The three 15-member Nevada councils advise the Secretary of the Interior, through the BLM Nevada State Director, on a variety of planning and management issues associated with public land management in Nevada. The meeting will be held at the John Ascuaga Nugget Hotel Casino, 1100 Nugget Avenue, Sparks, Nevada. Agenda topics include a presentation and discussion of accomplishments during 2010 and the outlook for 2011 for the BLM in Nevada; opening remarks and closeout reports of the three RACs; discussion on the BLM and U.S. Forest Service joint recreation subcommittee; breakout meetings of each group category; breakout meetings of the three RACs; and setting of schedules for meetings of the individual RACs for the upcoming year. The public may provide written comments to the three RAC groups or the individual RACs. Individuals who plan to attend and need further information about the meeting or need special assistance such as sign language interpretation or other reasonable accommodations may contact Rochelle Francisco.

Dated: September 30, 2010.
Ron Wenker,
State Director, Nevada.

[FR Doc. 2010-25275 Filed 10-6-10; 8:45 am]

BILLING CODE 4310-HC-P